DEPARTMENT OF ENERGY

[FE Docket No. PP-68-2]

Application to Amend Presidential Permit San Diego Gas & Electric Company

AGENCY: Office of Fossil Energy, DOE.

ACTION: Notice of Application.

SUMMARY: San Diego Gas & Electric Company (SDG&E) has applied to amend Presidential Permit PP-68 authorizing the construction, operation, maintenance, and connection of a 230-kV electric transmission line at the U.S. international border with Mexico.

DATES: Comments, protests, or requests to intervene must be submitted on or before March 29, 2001.

ADDRESSES: Comments, protests, or requests to intervene should be addressed as follows: Office of Coal & Power Import and Export (FE-27), Office of Fossil Energy, U.S. Department of Energy, 1000 Independence Avenue, SW., Washington, DC 20585-0350.

FOR FURTHER INFORMATION CONTACT: Ellen Russell (Program Office) 202-586-9624 or Michael T. Skinker (Program Attorney) 202-586-6667.

SUPPLEMENTARY INFORMATION: The construction, operation, maintenance, and connection of facilities at the international border of the United States for the transmission of electric energy between the United States and a foreign country is prohibited in the absence of a Presidential permit issued pursuant to Executive Order 10485, as amended by Executive Order 12038.

On January 12, 1981, the Department of Energy (DOE), in Presidential Permit PP-68, authorized San Diego Gas & Electric Company (SDG&E) to construct, operate, maintain, and connect a 230,000-volt (230-kV) electric transmission line from its Miguel Substation, located approximately 10 miles north of the United States border with Mexico, to Tijuana, Mexico, where it interconnects with similar facilities at the Comision Federal de Electricidad's Tijuana Substation. SDG&E is a regulated public utility and a wholly-owned subsidiary of Sempra Energy. On November 8, 1982, in Docket PP-68-1, DOE amended Presidential permit PP-68 to permit SDG&E to add a second set of conductors to the towers authorized in the original Presidential permit.

On February 8, 2001, SDG&E filed an application with the Office of Fossil Energy (FE) of DOE to again amend the existing Presidential permit to authorize it to make certain changes to the existing transmission line to provide for the connection of the 510-megawatt (MW) Otay Mesa merchant powerplant being developed 1.5 miles north of the border. To interconnect the new powerplant to the existing PP-68 international transmission facilities, SDG&E proposes to construct a 5-acre switchyard within the fenced boundary of the powerplant and to construct approximately 0.1 miles of new 230kV transmission line to interconnect with the 230-kV Miguel-Tijuana transmission line.

SDG&E also proposes to reconductor that portion of the existing transmission line from the new 5-acre switchyard, north to the Miguel Substation, a distance of approximately 8.5 miles. SDG&E proposes to bundle each circuit by adding a second set of conductors to each phase (i.e., 12 total conductors versus 6 that currently exist). The 1.5 mile portion of SDG&E's Miguel-Tijuana international transmission line south of the Otay Mesa powerplant will remain unchanged.

Since the restructuring of the electric power industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities constructed pursuant to Presidential permits to provide access across the border in accordance with the principles of comparable open access and non-discrimination contained in the FPA and articulated in Federal Energy Regulatory Commission Order No. 888, as amended (Promoting Wholesale Competition Through Open Access Non-Discriminatory Transmission Services by Public Utilities). In furtherance of this policy, DOE intends to condition any Presidential permit issued in this proceeding on compliance with these open access principles.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Additional copies of such petitions to intervene or protests also should be filed directly with: James F. Walsh, Sempra Energy, 101 Ash Street, HQ11B, San Diego, CA 92124 and Pat Fleming, Sempra Energy, 101 Ash Street, HQ14A, San Diego, CA 92124.

Before a Presidential permit may be issued or amended, the DOE must determine that the proposed action will not adversely impact on the reliability of the U.S. electric power supply system. In addition, DOE must consider the environmental impacts of the proposed actions pursuant to the National Environmental Policy Act of 1969. DOE also must obtain the concurrence of the Secretary of State and the Secretary of Defense before taking final action on a Presidential permit application.

Copies of this application will be made available, upon request, for public inspection and copying at the address provided above. In addition, the application may be reviewed or downloaded from the Fossil Energy Home Page at: http://www.fe.doe.gov. Upon reaching the Fossil Energy Home page, select “Electricity” from the option's menu, and then “Pending Proceedings.”

Issued in Washington, DC., on February 21, 2001.
Anthony J. Como,
Deputy Director, Electric Power Regulation, Office of Coal & Power Im/Ex, Office of Coal & Power Systems, Office of Fossil Energy.

[FR Doc. 01-4732 Filed 2-26-01; 8:45 am]

BILLING CODE 6450-01-P